DEPARTMENT OF TRANSPORTATION

Federal Highway Administration

Environmental Impact Statement; Hays County, Texas

AGENCY: Texas Department of Transportation (TxDOT), Federal Highway Administration (FHWA), Department of Transportation.

ACTION: Federal notice of intent to prepare an Environmental Impact Statement (EIS).

SUMMARY: FHWA, on behalf of TxDOT, is issuing this notice to advise the public that an EIS will be prepared for a proposed transportation project to construct a new location four lane roadway in and near the City of Kyle in Hays County. The roadway would start west of Kyle and run east to Interstate 35 (I-35), and may follow portions of existing Ranch-to-Market (RM) 150, from west of Arroyo Ranch Road, running east to I-35.

FOR FURTHER INFORMATION CONTACT: Carlos Swonke, Division Director, TxDOT Environmental Affairs Division, 125 East 11th Street, Austin, Texas 78701; Phone (512) 416-2734; email: carlos.swonke@txdot.gov. TxDOT's normal business hours are 8:00 a.m.-5:00 p.m. (central time), Monday through Friday.

SUPPLEMENTARY INFORMATION: The environmental review, consultation, and other actions required by applicable Federal environmental laws for this project are being, or have been, carried-out by TxDOT pursuant to 23 U.S.C. 327 and a Memorandum of Understanding dated December 16, 2014, and executed by FHWA and TxDOT.

TxDOT will prepare an EIS for the proposed construction of a new location four lane roadway in and near the City of Kyle in Hays County. The roadway would start west of Kyle and run east to I-35, and may follow portions of existing RM 150, from west of Arroyo Ranch Road, running east to I-35. The proposed project is included in the Capital Area Metropolitan Planning Organization (CAMPO) 2040 Metropolitan Transportation Plan, 2015, as a new location four-lane roadway that may follow portions of the existing RM 150 roadway. The proposed project is approximately 6 miles long.

Proposed improvements to Ranch to Market (RM) 150 are needed because the existing two-lane facility is inadequate to handle existing and future traffic volumes between I-35 and RM 150 west of Kyle, resulting in congestion and safety concerns. In addition, the overall transportation network does not provide sufficient linkage to I-35 to handle existing and future traffic volumes in this growing area of Hays County. The current two-lane facility does not meet current design standards, does not meet the Level of Service to meet increasing travel demand and does not provide a safe and adequate crossing of the Union Pacific Railroad. In addition, regional population growth continues to increase demand for additional capacity and access in this corridor and the region. The purpose of the proposed project is to relieve congestion and improve safety along the existing RM 150 corridor between RM 150 west of Kyle and I-35.

The EIS will develop and evaluate alternatives intended to satisfy the identified purpose and need. The alternatives will include a range of build alternatives and a no-build alternative within the study corridor, which is generally bounded to the north by RM 150 south of Indian Hills Trail, to the east by the existing RM 150 east of Arroyo Ranch Road and through the city of Kyle to I-35, to the south by the intersection of Yarrington Rd. and I-35, and to the west by the Blanco River.

The roadway build alternatives may include limited access and non-limited access (arterial) design. The EIS will evaluate potential impacts from construction and operation of the proposed project, including, but not limited to, the following: Transportation impacts, air quality and noise impacts; water quality impacts including storm water runoff, water recharge zone impacts; impacts to waters of the United States, including wetlands; impacts to floodplains; impacts to historic and archeological resources; socio-economic impacts including environmental justice and limited English proficiency populations; impacts to land use, vegetation and wildlife, including threatened and endangered species and habitat impacts; impacts to or potential displacement of residents and businesses; and impacts to aesthetic and visual resources. TxDOT will issue a single Final EIS and Record of Decision document pursuant to 23 U.S.C. 139(n)(2), unless TxDOT determines statutory criteria or practicability considerations preclude issuance of the combined document.

Anticipated state and federal permits, pending selection of alternatives and field surveys, may include, but are not limited to, the following: United States Army Corps of Engineers (USACE) Section 404 permit, Texas Commission on Environmental Quality (TCEQ) Section 401 Water Quality Certification; TCEQ Texas Pollutant Discharge Elimination System (TPDES) permit, Advisory Council for Historic Preservation (ACHP) Section 106 (National Historic Preservation Act) approval, and United States Fish and Wildlife Service Section 7 (Endangered Species Act) permits and approval.

Public involvement is a critical component of the project development process and will continue throughout the development of the EIS. A draft project coordination plan has been developed in accordance with 23 U.S.C. 139, Efficient Environmental Reviews for Project Decision Making, to identify and document opportunities for project involvement by the public and other agencies.

The project coordination plan will promote involvement from stakeholders, agencies and the public as well as describe the proposed project, the roles of the agencies and the public, the proposed project purpose and need, schedule, level of detail for alternatives analysis, and the proposed process for coordination and communication. The plan will be available for public review, input, and comments at public meetings, including scoping meetings held in accordance with the National Environmental Policy Act (NEPA) and upon request at the TxDOT Austin District Office.

In accordance with 23 U.S.C. 139, cooperating agencies, participating agencies and the public will be given an opportunity for continued input on the proposed project. A public scoping meeting is planned for the summer of 2018. An agency scoping meeting will also be held with participating and cooperating agencies. The purpose of the agency and public scoping meetings is to present the project studies completed to date and identify significant and other relevant issues related to the proposed RM 150 corridor as part of the NEPA process. The scoping meetings will provide an opportunity for participating agencies, cooperating agencies, and the public to review and comment on the draft project coordination plan and schedule, the proposed project purpose and need, the range of alternatives developed to date to be considered and evaluated in the EIS, and methodologies and level of detail for analyzing alternatives.

In addition to the agency and public scoping meetings, a public hearing will be held. Public notice will be given of the time and place of the meetings and hearing. To ensure that the full range of issues related to the proposed project is addressed and all significant issues are identified, comments and suggestions are invited from all interested parties. Such comments or questions concerning this proposed action should be directed to TxDOT at the address provided above.

(Catalog of Federal Domestic Assistance Program Number 20.205, Highway Planning and Construction.)

Issued on: July 10, 2018.
Michael T. Leary,
Director, Planning and Program Development, Federal Highway Administration.

[FR Doc. 2018-15301 Filed 7-17-18; 8:45 am]

BILLING CODE 4910-22-P